DEPARTMENT OF ENERGY

Federal Energy Regulatory Commission

[Docket No. ER03-1101-005, et al.]

PJM Interconnection, L.L.C., et al.; Electric Rate and Corporate Filings

September 24, 2004.

The following filings have been made with the Commission. The filings are listed in ascending order within each docket classification.

1. PJM Interconnection, L.L.C.

[Docket No. ER03-1101-005]

Take notice that on September 22, 2004, PJM Interconnection, L.L.C. (PJM) filed the second of four six-month reports concerning the effects of PJM's credit policy for virtual bidders, as required by the Commission's September 22, 2003 order in PJM Interconnection, L.L.C., 104 FERC ¶ 61,309 (2003).

PJM states that copies of this filing have been served on all persons listed on the official service list compiled by the Secretary in this proceeding.

Comment Date: 5 p.m. Eastern Time on October 13, 2004.

2. Alabama Power Company

[Docket No. ER04-1002-001]

Take notice that, on September 22, 2004, Alabama Power Company (Alabama Power) submitted a compliance filing pursuant to Alabama Power Company, 108 FERC ¶ 61,222 (2004), issued September 7, 2004 in Docket Nos. ER04-664-000 and ER04-1002-000. Alabama Power states that this filing serves to make a Commission approved specification sheet compliant with Order No. 614.

Alabama Power states that copies of the filing were served on parties on the official service list in the above-captioned proceeding.

Comment Date: 5 p.m. Eastern Time on October 13, 2004.

3. Midwest Independent Transmission System Operator, Inc.

[Docket No. ER04-1165-001]

Take notice that on September 22, 2004, the Midwest Independent Transmission System Operator, Inc. (Midwest ISO) submitted for filing, pursuant to section 205 of the Federal Power Act, 16 U.S.C. 824d, additional revisions to section 2.2 of the Midwest ISO Open Access Transmission Tariff (the Midwest ISO OATT) to correct typographical errors in the original filing made on August 31, 2004.

Midwest ISO states that the filing has been served electronically upon all Midwest ISO Members, Member representatives of Transmission Owners and Non-Transmission Owners, the Midwest ISO Advisory Committee participants, as well as all state commissions in the region. In addition, Midwest ISO states that the filing has been posted electronically on the Midwest ISO's Web sites at http://www.midwestiso.org under the heading “Filings to FERC” for other interested parties in this matter.

Comment Date: 5 p.m. Eastern Time on October 8, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2456 Filed 9-30-04; 8:45 am]

BILLING CODE 6717-01-P